DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the energy information collection listed at the end of this notice to the Office of Management and Budget (OMB) for review and a three-year extension under section 3507(h)(1) of the Paperwork Reduction Act of 1995 (Pub. L. 104-13) (44 U.S.C. 3501 et seq).

DATES: Comments must be filed by October 7, 2002. If you anticipate that you will be submitting comments but find it difficult to do so within that period, you should contact the OMB Desk Officer for DOE listed below as soon as possible.

ADDRESSES: Send comments to Bryon Allen, OMB Desk Officer for DOE, Office of Information and Regulatory Affairs, Office of Management and Budget. To ensure receipt of the comments by the due date, submission by FAX (202-395-7285) or e-mail (BAllen@omb.eop.gov) is recommended. The mailing address is 726 Jackson Place NW., Washington, DC 20503. The OMB DOE Desk Officer may be telephoned at (202) 395-3087. (A copy of your comments should also be provided to EIA's Statistics and Methods Group at the address below.)

FOR FURTHER INFORMATION CONTACT: Requests for additional information should be directed to Herbert Miller. To ensure receipt of the comments by the due date, submission by FAX (202-287-1705) or e-mail (herbert.miller@eia.doe.gov) is recommended. The mailing address is Statistics and Methods Group (EI-70), Forrestal Building, U.S. Department of Energy, Washington, DC 20585-0670. Mr. Miller may be contacted by telephone at (202) 287-1711.

SUPPLEMENTARY INFORMATION: This section contains the following information about the energy information collection submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. EIA-176, 191, 857, 895, 910 and 912, “Natural Gas Data Collection Program Package”

2. Energy Information Administration

3. OMB Number 1905-0175

4. Three-year approval requested—In addition to the changes to the surveys outlined in the Federal Register notice published February 25, 2002, on pages 8530—8532, EIA is also requesting that companies file electronically, either by fax or e-mail, unless they lack the technology.

5. Mandatory (Form EIA-895 is voluntary)

6. The Natural Gas Data Collection Program Package forms collect basic and detailed natural gas production, processing, transmission, storage, deliveries, and price data. The data are published by the EIA and are used by both public and private analysts. Respondents include natural gas pipeline companies, distributors, storage operators, marketers, processing plant operators, and State agencies.

7. Business or other for-profit; State, Local or Tribal Government

8. 45,464 hours ( 2,047 respondents x 6.14 responses per year x 3.6 hours per response).

Statutory Authority: Section 3507(h)(1) of the Paperwork Reduction Act of 1995 (Pub. L. 104-13)(44 U.S.C. 3501 et seq).

Issued in Washington, DC, August 28, 2002.
Jay H. Casselberry,
Agency Clearance Officer, Statistics and Methods Group, Energy Information Administration.

[FR Doc. 02-22600 Filed 9-4-02; 8:45 am]

BILLING CODE 6450-01-P